DEPARTMENT OF AGRICULTURE

Grain Inspection, Packers and Stockyards Administration

United States Standards for Whole Dry Peas and Split Peas

AGENCY: Grain Inspection, Packers and Stockyards Administration, USDA.

ACTION: Final notice.

SUMMARY: The Department of Agriculture's (USDA) Grain Inspection, Packers and Stockyards Administration (GIPSA) is revising the US Standards for Whole Dry Peas and Split Peas to amend the general definitions, “Whole Dry Peas” and “Split Peas,” and the following specific definitions: “Smooth Green Dry Peas,” “Smooth Yellow Dry Peas,” “Wrinkled Dry Peas,” “Green Split Peas” and “Yellow Split Peas.” In addition, GIPSA is modifying the classification term and associated definitions, “Winter Dry Peas” and “Winter Split Peas.” These changes will help facilitate the marketing of new winter pea variety releases and help ensure the purity of class for “Whole Dry Peas” and “Split Peas.”

DATES: Effective Date: July 15, 2009.

FOR FURTHER INFORMATION CONTACT: Beverly A. Whalen at USDA, GIPSA, FGIS, Market and Program Analysis Staff, Beacon Facility, STOP 1404, P.O. Box 419205, Kansas City, Missouri, 64141; Telephone (816) 823-4648; Fax Number (816) 823-4644; e-mail Beverly.A.Whalen@usda.gov.

SUPPLEMENTARY INFORMATION:

Background

Section 203(c) of the Agricultural Marketing Act of 1946, as amended, (AMA) (7 U.S.C. 1622(c)), directs and authorizes the Secretary of Agriculture “to develop and improve standards of quality, condition, quantity, grade, and packaging, and recommend and demonstrate such standards in order to encourage uniformity and consistency in commercial practices.” GIPSA is committed to carrying out this authority in a manner that facilitates the marketing of agricultural commodities.

GIPSA establishes and maintains a variety of quality and grade standards for agricultural commodities that serve as the fundamental starting point to define commodity quality in the domestic and global marketplace. GIPSA provides official procedures for how inspectors determine the various grading factors in supporting handbooks, such as the Pea and Lentil Handbook, which is available on the GIPSA Web site at http://www.gipsa.usda.gov/GIPSA/webapp?area=home&subject=lr&topic=hb-pl.

The AMA standards and supporting procedures are voluntary and used widely in private contracts, government procurement and marketing communication. Standards developed under the AMA include those for rice, whole dry peas, split peas, feed peas, lentils and beans. The U.S. standards for whole dry peas, split peas, feed peas, lentils and beans no longer appear in the Code of Federal Regulations, but are now maintained by USDA-GIPSA. The process for developing or reviewing these standards is specified in the AMA regulations (7 CFR 868.102, Procedures for establishing and revising grade standards). The U.S. Standards for Whole Dry Peas and Split Peas are available from the GIPSA Web site at http://www.gipsa.usda.gov, or by phone, fax or e-mail from the contact listed above.

GIPSA representatives maintain an ongoing working relationship with the USA Dry Pea and Lentil Council (USADPLC), a national organization of producers, processors, and exporters of U.S. dry peas, lentils, and chickpeas; the US Dry Pea and Lentil Trade Association (USPLTA), a national association representing processors, traders, and transporters in the pea and lentil industry, as well as handlers and merchandisers to ensure the effectiveness of the U.S. Standards for whole dry peas, split peas, and lentils in today's marketing environment. USADPLC and USPLTA maintain that the release of and the market's acceptance of new winter pea varieties necessitate several changes in the grading standards for winter dry peas and split peas. As a result, GIPSA is revising the whole dry and split pea standards to enable new and future winter pea variety releases to be classified and marketed on the basis of cotyledon color and desired usage, not on the basis of growth habit. GIPSA is also modifying classification terms and broadening associated working definitions that permit physically and visually similar peas to be included in a common class to help ensure purity.

Comment Review

GIPSA published a notice in the Federal Register on April 20, 2009 (74 FR 17948), inviting interested parties to comment on the proposed revisions to the U.S. Standards for Whole Dry Peas and Split Peas. GIPSA received one comment that supported the proposed changes from a company that markets both spring and winter planted types of dry peas.

Final Action

GIPSA is revising select descriptive classification terms and definitions to allow new and future winter dry pea releases to be marketed as smooth green or smooth yellow dry peas and preserve purity of class by grouping colored or distinctively mottled peas (e.g., traditional winter dry and maple peas), regardless of planting date. The definitions are revised as follows:

1. “Whole Dry Peas.” Threshed seeds of the garden type pea plant (Pisum sativum L. and Pisum sativum var. arvense (L.) Poir.), which after the removal of dockage, contain 50.0 percent or more of whole peas and not more than 10.0 percent of foreign material.

2. “Smooth Yellow Dry Peas.” Dry peas which have smooth seed coats and yellow cotyledons and contain not more than 1.5 percent of other classes.

3. “Smooth Green Dry Peas.” Dry peas which have smooth seed coats and green cotyledons and contain not more than 1.5 percent of other classes.

4. “Wrinkled Dry Peas.” Dry peas which have wrinkled seed coats and contain not more than 1.5 percent of other classes.

5. “Split Peas.” Threshed seeds of the garden type pea plant (Pisum sativum L. and Pisum sativum var. arvense (L.) Poir.), which have 50.0 percent or more of the peas split into halves or smaller pieces and contain not more than 10.0 percent of foreign material.

6. “Green Split Peas.” Split peas from smooth green dry pea varieties.

7. “Yellow Split Peas.” Split peas from smooth yellow dry pea varieties.

In addition, GIPSA is replacing the classification terms and definitions of “Winter Dry Peas” and “Winter Split Peas” with “Mottled Dry Peas” and “Miscellaneous Split Peas,” respectively. The changes are as follows:

1. “Mottled Dry Peas.” Dry peas of the Austrian winter pea type and other peas which have colored or distinctively mottled seed coats which contain not more than 1.5 percent of other classes.

2. “Miscellaneous Split Peas.” Split peas from classes of whole peas other than smooth green or smooth yellow dry pea varieties.

These changes will facilitate use of the standards and better reflect current marketing practices.

The changes to the standards are effective July 15, 2009, the beginning of the harvest season.

Authority: 7 U.S.C. 1621-1627.

J. Dudley Butler,
Administrator, Grain Inspection, Packers and Stockyards Administration.

[FR Doc. E9-14565 Filed 6-19-09; 8:45 am]

BILLING CODE 3410-KD-P